DEPARTMENT OF THE INTERIOR

National Park Service

[NPS-WASO-NRNHL-14061; PPWOCRADI0, PCU00RP14.R50000]

National Register of Historic Places; Notification of Pending Nominations and Related Actions

Nominations for the following properties being considered for listing or related actions in the National Register were received by the National Park Service before September 7, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 11, 2013. Before including your address, phone number, email address, or other personal identifying information in your comment, you should be aware that your entire comment—including your personal identifying information—may be made publicly available at any time. While you can ask us in your comment to withhold your personal identifying information from public review, we cannot guarantee that we will be able to do so.

Dated: September 12, 2013.
J. Paul Loether,
Chief, National Register of Historic Places, National Historic Landmarks Program.

COLORADO

Las Animas County

Earl School, (Rural School Buildings in Colorado MPS), Address Restricted, Earl, 13000844

DISTRICT OF COLUMBIA

District of Columbia

Chapman Coal Company Garage and Stable, 57 N St. NW., Washington, 13000845

FLORIDA

Miami-Dade County

Jones Family Historic District, Biscayne NP, Islandia, 13000846

MARYLAND

Baltimore Independent City

Coca-Cola Bottling Company of Baltimore Building, 2525 Kirk Ave., Baltimore (Independent City), 13000847

Coldstream Homestead Montebello Historic District, Roughly bounded by The Alameda, Kennedy & Kirk Aves., Harford Rd., E. 32nd & E. 33rd Sts., Baltimore (Independent City), 13000848

Oak Street Garage, 2600 N. Howard St., Baltimore (Independent City), 13000849

WISCONSIN

Racine County

Burlington Community Swimming Pools and Bathhouse, 394 Amanda St., Burlington, 13000850

A request to remove has been made for the following resources:

SOUTH CAROLINA

Charleston County

Point of Pines Plantation Slave Cabin, Point of Pines Rd., Edisto Island, 86003213

Horry County

Chesterfield Inn, 700 N. Ocean Blvd., Myrtle Beach, 96001218

[FR Doc. 2013-23402 Filed 9-25-13; 8:45 am]

BILLING CODE 4312-51-P